DEPARTMENT OF ENERGY

Federal Energy Regulatory Commission

Notice of Intent To File an Application for a Subsequent License (Transmission line)

June 12, 2000.

a. Type of filing: Notice of Intent to File An Application for a Subsequent License (Transmission Line).

b. Project No.: 2117.

c. Date Filed: May 31, 2000.

d. Submitted By: South Carolina Public Service Authority (Santee Cooper)—current licensee.

e. Name of Project: Clark Hill-Aiken Transmission Line Project.

f. Location: In Aiken, Edgefield, and McCormick Counties, South Carolina. The project affects federal lands within the Sumter National Forest.

g. Filed Pursuant to: Section 15 of the Federal Power Act

h. Licensee Contact: John H. Tiencken, Jr., One Riverwood Drive, P.O. Box 2946101, Moncks Corner, S.C. 29461, (843) 761-7063.

i. FERC Contact: Tom Dean, thomas.dean@ferc.fed.us, (202) 219-2778.

j. Effective date of current license: June 1, 1953

k. Expiration date of current license: May 31, 2003

l. Description of the Project: The project consists of the following existing facilities: (1) A 27.6-mile-long, 115-kV single circuit transmission line; and (2) other appurtenances.

m. Each application for a subsequent license and any competing license applications must be filed with the commission at least 24 months prior to the expiration of the existing license. All applications for license for this project must be filed by May 31, 2001.

David P. Boergers,
Secretary.

[FR Doc. 00-15274 Filed 6-15-00; 8:45 am]

BILLING CODE 6717-01-M